DEPARTMENT OF AGRICULTURE

Federal Crop Insurance Corporation

7 CFR Part 400

General Administrative Regulations; Interpretations of Statutory and Regulatory Provisions

AGENCY: Federal Crop Insurance Corporation, USDA.

ACTION: Final rule; correction.

SUMMARY: In an interim rule published in the Federal Register on December 21, 1998, the Federal Crop Insurance Corporation (FCIC) amended the General Administrative Regulations by adding a new subpart X to implement the statutory mandates of section 533 of the Agricultural Research, Extension, and Education Reform Act of 1998 (1998 Research Act). The rule provided procedures for responding to requests for final agency determinations regarding any provision of the Federal Crop Insurance Act (Act) or any regulation promulgated thereunder. The interim rule was made final on September 16, 1999. This correction is needed to correct the facsimile number and electronic mail address provided for requester submissions for final agency determinations.

DATES: This rule is effective January 13, 2006.

FOR FURTHER INFORMATION CONTACT: Heyward Baker, Director, Risk Management Services Division, Risk Management Agency, United States Department of Agriculture, Stop Code 0803, 1400 Independence Avenue, SW., Washington, DC 20250-0803, telephone (202) 720-4232.

SUPPLEMENTARY INFORMATION:

List of Subjects in 7 CFR Part 400

General administrative regulations; Interpretations of statutory and regulatory provisions.

Need for Correction

As currently published, 7 CFR 400.767 contains outdated contact information. Accordingly, 7 CFR part 400 is corrected by making the following amendment:

PART 400—GENERAL ADMINISTRATIVE REGULATIONS

Subpart X—Interpretations of Statutory and Regulatory Provisions

1. The authority citation for 7 CFR part 400 continues to read as follows:

Authority: 7 U.S.C. 1506(l), 1506(p).

2. Amend § 400.767 by revising paragraph (a)(1) to read as follows:

§ 400.767 Requester obligations.

* * * * *

(a) * * *

(1) Be submitted:

(i) In writing by certified mail, to the Associate Administrator, Risk Management Agency, United States Department of Agriculture, Stop Code 0801, 1400 Independence Avenue, SW., Washington, DC 20250-0801;

(ii) By facsimile at (202) 690-3604; or

(iii) By electronic mail at RMA.Mail@rma.usda.gov;

* * * * *

Signed in Washington, DC, on January 4, 2006.
Eldon Gould,
Manager, Federal Crop Insurance Corporation.

[FR Doc. 06-269 Filed 1-12-06; 8:45 am]

BILLING CODE 3410-08-P